DEPARTMENT OF HEALTH AND HUMAN SERVICES

Administration for Children and Families

[ACF-ORR-06-25-2003]

Employment Subsidy Program for Refugees With Assimilation Difficulties

AGENCY: Office of Refugee Resettlement (ORR), ACF, HHS.

ACTION: Notice of availability of FY 2003 social services discretionary funds for employment subsidy projects for refugees who have experienced long-term difficulties with assimilation.

CFDA Number: The Catalog of Federal Domestic Assistance number for this program is 93.576.

SUMMARY: The Office of Refugee Resettlement invites eligible entities to submit competitive grant applications for Employment Subsidy Projects for Refugees ¹ who have experienced long-term difficulties with assimilation. These grants are intended for localities with concentrations of refugees who have experienced difficulty integrating economically and socially into local communities. Applications will be accepted pursuant to the Director's discretionary authority under section 412(c) of the Immigration and Nationality Act (INA) (8 U.S.C. 1522(c)(1)(A)), as amended. Applications will be screened and evaluated as indicated in this program announcement. Awards will be contingent on the outcome of the competition and the availability of funds.

¹ Eligibility for refugee social services includes: (1) Refugees; (2) asylees; (3) Cuban and Haitian entrants; (4) certain Amerasians from Vietnam who are admitted to the U.S. as immigrants; (5) certain Amerasians from Vietnam, including U.S. citizens; and (6) victims of a severe form of trafficking (see 45 CFR 400.43 and ORR State Letter #01-13 as modified by #02-01 on trafficking victims). For convenience, the term “refugee” is used in this notice to encompass all such eligible persons.

DATES: The closing date for submission of applications is August 8, 2003. See Part IV of this announcement for more information on submitting applications.

Announcement Availability: This program announcement and related application materials are available from the ORR Web site at: http://www.acf.hhs.gov/programs/orr/funding.

FOR FURTHER INFORMATION CONTACT: Jane Sommerville, Division of Community Resettlement, Office of Refugee Resettlement, Administration for Children and Families, 370 L'Enfant Promenade, SW., Eighth Floor West, Washington, DC 20447, telephone: (202) 401-4861, e-mail: MSommerville@acf.hhs.gov or Daphne Weeden, Grants Officer, Division of Discretionary Grants, Office of Grants Management, 370 L'Enfant Promenade, SW., Fourth Floor West, Washington, DC 20447, telephone (202) 401-4577, e-mail DWeeden@acf.hhs.gov.

SUPPLEMENTARY INFORMATION: This program announcement consists of four parts:

Part I: Background, legislative authority, funding availability, eligible applicants, project and budget periods, program purpose and objectives, and allowable activities

Part II: General Instructions for preparing a full project description and evaluation criteria

Part III: The Review Process—intergovernmental review, initial ACF screening, and competitive review

Part IV: The Application—application forms, application submission and deadlines, certifications, assurances, and disclosure required for non-construction programs, regulations, treatment of program income, and reporting requirements.

Paperwork Reduction Act of 1995 (Pub. L. 104-13): Public reporting burden for this collection of information is estimated to average 16 hours per response, including the time for reviewing instructions, gathering and maintaining the data needed, and reviewing the collection of information. The project description is approved under OMB control number 0970-0139 which expires 12/31/03. An agency may not conduct or sponsor, and a person is not required to respond to, a collection of information unless it displays a currently valid OMB control number.

Part I: Background

The purpose of this program announcement is to increase rates of refugee employment and decrease rates of refugee welfare utilization by providing earned income subsidies to enable refugees who have experienced long-term difficulties, or who are likely to experience long-term difficulties, in assimilating into American communities with positive workforce experiences. These projects are intended to assist refugees: (1) Who have experienced long-term difficulties in assimilating into American communities or (2) who are likely to experience long-term difficulties in assimilation, including recently arrived refugees with conditions described below, older refugees, refugees with disabilities or chronic illnesses, and youth who are not enrolled in school and have little or no family support structure. These grants will provide opportunities for subsidized and unsubsidized job placements that will lead to permanent employment and economic self-sufficiency. Economic self-sufficiency contributes significantly to successful integration.

Projects funded under this announcement are intended to assist communities across this country with concentrations of refugees, many of whom entered the United States over a decade ago, who continue to experience difficulty integrating into their communities and achieving economic self-sufficiency. For some of these refugees, language skills, cultural barriers, the lack of financial resources, and years of relying on public assistance have resulted in isolating them from the mainstream, limiting their employment opportunities, and hindering their integration into American communities. Their low rate of assimilation has been documented in many localities on such key indicators as poverty levels, welfare utilization, car and home ownership, high school completion, college attendance or graduation, English language fluency, employment rates, household income, per capita income, and naturalization rates.

Projects funded under this announcement are also intended to assist communities with more recently arrived refugees who are likely to experience long-term unemployment and difficulties in assimilating. For instance, some refugees experience difficulties in employment and assimilation due to the long-term impacts of circumstances such as lengthy stays in refugee camps, torture, starvation, prolonged malnutrition, or other trauma prior to their arrival in the U.S. In addition, some refugees are from environments and cultural backgrounds that are so distinct from the way of life in the United States that their ability to assimilate successfully is a greater challenge than that experienced by some other refugee populations. Finally, older refugees, refugees with disabilities and/or chronic illnesses, and youth who are not enrolled in school and have little or no family support structure encounter additional difficulties in integrating into the American workforce and American society. These refugees also may experience long-term difficulties in employment and assimilation.

Legislative Authority

This program is authorized by section 412(c)(1)(A) of the Immigration and Nationality Act (INA), as amended, (8 U.S.C. 1522(c)(1)(A)), which authorizes the Director “to make grants to, and enter into contracts with, public or private nonprofit agencies for projects specifically designed—(i) To assist refugees in obtaining the skills which are necessary for economic self-sufficiency, including projects for job training, employment services, day care, professional refresher training, and other recertification services, (ii) to provide training in English where necessary (regardless of whether the refugees are employed or receiving cash or other assistance); and (iii) to provide where specific needs have been shown and recognized by the Director, health (including mental health) services, social services, educational, and other services.”

Funding Availability

ORR expects to award approximately $5 million in FY 2003 discretionary social services funds for 10 to 20 projects in amounts ranging from $200,000 to $800,000. The award amount range is for planning purposes. Applications with requested amounts that exceed the upper value of the dollar range specified will still be considered for review. No matching or cost sharing by the applicant is required.

Eligible Applicants

Eligible applicants for these funds include public and private, nonprofit agencies. Faith-based and community organizations are eligible to apply for these grants.

Private, non-profit agencies are encouraged to submit with their applications the optional survey located under “Grant Manuals & Forms” at http://www.acf.hhs.gov/programs/ofs/forms.htm.

Project and Budget Periods

Under this announcement, ORR invites applications for project periods of up to three years. Awards, on a competitive basis, will be for a one-year budget period, although project periods may be for three years.

Applications for continuation grants funded under these awards, beyond the first one-year budget period but within the three-year project period, will be entertained in subsequent years on a noncompetitive basis, subject to availability of funds, satisfactory progress and performance of the grantee, and a determination that continued funding would be in the best interest of the Government.

Program Purpose and Objectives

Projects funded under this announcement will be designed to connect long-term unemployed refugees to the labor force and to provide, through subsidized wages, earned income to refugees and their households. The purpose is to assist these refugees in making a transition to unsubsidized permanent employment and to full integration in their communities.

Refugees eligible to participate in projects funded under this announcement must be at least 18 years of age and must not be enrolled in school on a full-time basis. Refugee participants must also be unemployed, without earned income, employed part-time, or members of families receiving public assistance. Refugees are eligible to participate in this project if they have resided in the U.S. for a minimum of one year and have been residents of their communities for a minimum of three months. Refugees must demonstrate that they have exhausted other types and sources of employment services and that they are continuing to experience long-term unemployment.

ORR anticipates that refugees targeted for these programs would include long-term recipients of public assistance (12 months or more), refugees who face termination from Temporary Assistance for Needy Families (TANF) within the 12 month period following enrollment in this project, and refugees who have experienced unusually difficult circumstances in employment and in assimilation. Refugee populations such as older workers, refugees with disabilities, and at-risk youth who are at least 18 years of age, who are not enrolled in school, and who have little or no family support structure may be included as well.

Subsidized positions may be in either public or private sector organizations. Grantees must establish a network of relationships with appropriate public or private employers to identify and develop suitable subsidized positions. Through written contractual agreements, grantees may use funds to reimburse employers for up to 100 percent of the employment wage (including fringe benefits), for a maximum of nine months. In exchange for the salary subsidy, the employer agrees to provide the refugee employee additional supervisory assistance in learning the job and to retain the refugee employee in this position after the wage subsidy has ended. If insufficient funds are available to continue the position, the employer agrees to assist the refugee employee in securing other employment.

Applicants should identify the types and number of employment positions to be included in their project, including job descriptions, qualifications, salary levels, and benefits. Project participants must be paid an hourly wage equivalent to the prevailing rates of pay for persons employed in similar occupations by the same employer. No wage should be lower than the Federal minimum wage. Refugee employees must be eligible for all benefits available to all other employees at the work site.

Wage subsidies must be used for a net increase in the number of positions within a given organization and may not be used to replace currently funded positions. Refugees employed as a result of this project may not displace employed workers or workers on layoff.

Allowable Activities

Allowable activities may include, but are not limited to, the following:

• Placement of long-term unemployed refugees in subsidized positions;

• Placement of long-term unemployed refugees in unsubsidized placements;

• On-the-job training for refugee participants to obtain professional skills at the workplace; i.e. core office skills, office protocol, notification of sick leave, time and attendance procedures, etc.;

• Vocational English language training in conjunction with a specific position;

• Technical assistance to employers working with refugee participants;

• On-site mentoring programs between refugees and other employees;

• Provision of support services to refugees which may include: on-site technical assistance, employment counseling, job retention counseling and activities, and work-related incidental expenses for such items as work shoes, uniforms, glasses, public transportation passes, etc., if these are not available from other sources;

• Technical assistance to vocational and educational instructors working with refugees; and

• Provision of specialized services to address the specific needs of the refugee population being assisted.

To be successful in this competition, applicants must demonstrate their capacity to implement and manage new and financially complex projects. Applicants must also describe their agency's links to the refugee populations to be assisted through this program. Finally, applicants must demonstrate a specific need for supplementation of available employment resources to place refugees with difficulties in assimilating into permanent employment.

Part II: General Instructions for Preparing a Full Project Description

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant-funded activity should be placed in an appendix.

Pages should be numbered and a table of contents should be included for easy reference. Pages should be numbered sequentially, including any attachments or appendices. The application narrative should be in a 12-pitch font. An executive summary should be included. Tabs should not be used.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, ORR is particularly interested in:

• Numbers, types, and average salaries of initial and subsequent subsidized and unsubsidized job placements;

• The degree to which employee benefits, including medical coverage, are available for subsidized and unsubsidized positions;

• The cost per placement into subsidized and unsubsidized positions;

• Hours per week of unsubsidized/subsidized job placements;

• Number of transitions from subsidized to unsubsidized positions, and job retention;

• Total funds used for subsidies.

The application may include other performance outcomes, as appropriate.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Additional Information

Following are requests for additional information that need to be included in the application:

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by including in the application:

a. A reference to the applicant organization's listing in the Internal Revenue Service's (IRS) most recent list of tax-exempt organizations described in the IRS Code.

b. A copy of a currently valid IRS tax exemption certificate.

c. A statement from a State taxing body, State attorney general, or other appropriate State official certifying that the applicant organization has a non-profit status and that none of the net earning accrue to any private shareholders or individuals.

d. A certified copy of the organization's certificate of incorporation or similar document that clearly establishes non-profit status.

e. Any of the items in the above for a State or national parent organization and a statement signed by the parent organization that the applicant organization is a local non-profit affiliate.

Private, non-profit organizations are encouraged to submit with their applications the optional survey located under “Grant Manuals & Forms” at http://www.acf.hhs.gov/programs/ofs/forms.htm.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information that supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application that contain this information.

Total Direct Charges, Total Indirect Charges, Total Project Costs

Self-explanatory.

Evaluation Criteria

1. Approach—(25 points) The applicant provides a clear explanation of a feasible, appropriate, and complete plan for establishing subsidized employment opportunities for refugee participants, including evidence of subsequent permanent employment. The proposed activities and timeframes are reasonable and feasible. The applicant has described the planning and/or consultation efforts undertaken. The applicant identifies local employers who have made commitments to the project and describes them (e.g., number and types of jobs, supportive services and training, qualifications, and salary levels, etc.) The applicant includes a description of the proposed plan for recruitment and for selecting refugees for participation. There is a clear description of the availability and planned use of other community services and resources for refugee employment. The strategy and plan are likely to achieve proposed results and lead to increased permanent employment opportunities for refugees.

2. Results or Benefits Expected—(20 points) The outcomes and benefits proposed are reasonable and reflect the objectives of this announcement. The applicant clearly identifies the results and benefits to be derived for refugees and their families as well as for the community. Proposed outcomes are measurable and achievable within the grant project period, and the proposed monitoring, information collection, and documentation are appropriately designed to assess project performance.

3. Organizational Profiles—(20 points) Applicant organization and staff and partner organizations are well qualified and have demonstrated the capability to implement and manage new programs, to recruit and work with the refugee population, and to manage employment programs for refugees. The administrative and management features of the project, including a plan for fiscal and programmatic management of each activity and planning activities, are described in detail with proposed start-up times, ongoing timelines, major milestones or benchmarks, a component/project organization chart, and a staffing chart. The qualifications of project staff are documented. The applicant has provided a copy of its most recent audit report. If appropriate, written agreements between grantees and sub-grantees or other cooperating entities, detailing work to be performed, remuneration, and other terms and conditions that structure or define the relationship to this project, are provided.

4. Budget and Budget Justification—(20 points) The budget and narrative justification are reasonable, clearly presented, and cost-effective in relation to the proposed activities and anticipated results. The methodologies for estimating the number of refugee participants are reasonable. The projected cost per job placement is reasonable.

5. Objectives and Need for Assistance—(15 points) The applicant identifies and documents the characteristics of the refugee population and/or community to be assisted and clearly describes the need for subsidized employment for this population. Indicators of the need for assistance and of low rates of assimilation may include reliance on public assistance, incomes below 200 percent of the Federal poverty level, and low rates of employment, education, access to financial institutions, and car and home ownership.

Part III: The Review Process

Intergovernmental Review

This program is covered under Executive Order 12372, “Intergovernmental Review of Federal Programs,” and 45 CFR part 100, “Intergovernmental Review of Department of Health and Human Services Programs and Activities.” Under the Order, States may design their own processes for reviewing and commenting on proposed federal assistance under covered programs.

All States and Territories except Alabama, Alaska, Arizona, Colorado, Connecticut, Hawaii, Idaho, Indiana, Louisiana, Massachusetts, Minnesota, Montana, Nebraska, New Jersey, New York, Ohio, Oklahoma, Oregon, Palau, Pennsylvania, South Dakota, Tennessee, Vermont, Virginia, Washington, and Wyoming have elected not to participate in the Executive Order process. Applicants from these twenty-six jurisdictions need take no action regarding E.O. 12372. Applicants for projects to be administered by Federally recognized Indian Tribes are also exempt from the requirements of E.O. 12372. Applicants should contact their Single-Points-of-Contact (SPOC) as soon as possible to alert them of the prospective applications and receive any necessary instructions. Applicants from participating jurisdictions must submit any required material to the SPOCs as soon as possible so that the program office can obtain and review SPOC comments as part of the award process. The applicant must submit all required materials, if any, to the SPOC and indicate the date of this submittal (the date of contact) on the Standard Form 424, item 16a.

Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Daphne Weeden, Grants Officer, U.S. Department of Health and Human Services, Administration for Children and Families, Office of Grants Management, Division of Discretionary Grants, 370 L'Enfant Promenade SW., Fourth Floor West, Washington, DC 20447.

A list of the Single Points of Contact for each participating State and Territory can be found on the web at: http://www.whitehouse.gov/omb/grants/spoc.html.

Initial ACF Screening—Each application submitted under this program announcement will undergo a pre-review to determine that (1) the application was received by the closing date and submitted in accordance with the instructions in this announcement; and (2) the applicant is eligible for funding.

Competitive Review—Applications which pass the initial ACF screening will be evaluated and rated by an independent review panel on the basis of evaluation criteria specified below. The evaluation criteria were designed to assess the quality of a proposed project and to determine the likelihood of its success. The evaluation criteria are closely related and are considered as a whole in judging the overall quality of an application. Points are awarded only to applications that are responsive to the evaluation criteria within the context of this program announcement.

Part IV: The Application

Application Forms—In order to be considered for a grant under this program announcement, an application must be submitted on the forms supplied and in the manner prescribed by ACF. Applicants requesting financial assistance under this announcement must file the Standard Form (SF) 424, Application for Federal Assistance; SF 424A, Budget Information—Non-construction Programs; SF 424B, Assurances—Non-Construction Programs. The forms may be reproduced for use in submitting applications. Application materials, including forms and instructions, are available from the ORR Web site at http://www.acf.hhs.gov/programs/orr/funding. The application materials are also available from the Contact named in the preamble of this announcement.

Please do not include books or videotapes as they are not easily reproduced and are, therefore, inaccessible to the reviewers.

Application Submission and Deadlines—An application with an original signature and two clearly identified copies are required. Applicants must clearly indicate on the SF 424 the grant announcement number under which the application is submitted. Applicants have the option of omitting from the application copies (not from the original) specific salary rates or amounts for individuals specified in the application budget. The copies may include summary salary information.

The closing time and date for receipt of applications is 4:30 p.m. (Eastern Time Zone) on August 8, 2003. Mailed or handcarried applications received after 4:30 p.m. on the closing date will be classified as late.

Mailed applications shall be considered as meeting an announced deadline if they are received on or before the deadline date and received by ACF in time for the independent review to: U.S. Department of Health and Human Services, Administration for Children and Families, Office of Grants Management, Attention: Daphne Weeden, Grants Officer, 370 L'Enfant Promenade, SW., Fourth Floor West, Washington, DC 20447. ACF will acknowledge receipt of applications. Receipt of applications will be acknowledged by letter. Applicants are cautioned that express/overnight mail services do not always deliver as agreed.

Applications handcarried by applicants, by applicant couriers, or by other representatives of the applicant shall be considered as meeting an announced deadline if they are received on or before the deadline date, between the hours of 8 a.m. and 4:30 p.m., EDT, at the U.S. Department of Health and Human Services, Administration for Children and Families, Office of Grants Management, ACF Mailroom, Second Floor (near loading dock), Aerospace Building, 901 D Street, SW., Washington, DC 20024, between Monday and Friday (excluding Federal holidays). The address must appear on the envelope/package containing the application with the note “Attention: Daphne Weeden, Grants Officer.”

ACF cannot accommodate transmission of applications by fax or through other electronic media. Therefore, applications transmitted to ACF electronically will not be accepted regardless of date or time of submission and time of receipt.

Late applications—Applications that do not meet the criteria above are considered late applications. ACF shall notify each late applicant that its application will not be considered in the current competition.

Extension of deadlines—ACF may extend application deadlines when circumstances such as acts of God (e.g., floods, hurricanes, etc.) occur or when there are widespread disruptions of mail service.

Determinations to extend or waive deadline requirements rest with the Chief Grants Management Officer.

For Further Information on Application Deadlines, Contact: Daphne Weeden, Grants Officer, Administration for Children and Families, Office of Grants Management, Division of Discretionary Grants, 370 L'Enfant Promenade SW., Fourth Floor West, Washington, DC 20447, Telephone: (202) 401-4577.

Certifications, Assurances, and Disclosure Required for Non-Construction Programs—Applicants requesting financial assistance for non-construction projects must file the Standard Form 424B, “Assurances: Non-Construction Programs.” Applicants must sign and return the Standard Form 424B with their applications.

Applicants must provide a signed certification concerning lobbying. Prior to receiving an award in excess of $100,000, applicants should furnish an executed copy of the lobbying certification (approved by the Office of Management and Budget under control number 0348-0046). Applicants must sign and return the certification with their application.

Applicants must make the appropriate certification of their compliance with the Drug Free Workplace Act of 1988. By signing and submitting the application, applicants are providing the certification and need not mail back the certification with the application.

Applicants must make the appropriate certification that they are not presently debarred, suspended, or otherwise ineligible for the award. By signing and submitting the application, applicants are providing the certification and need not mail back the certification with the application.

Applicants must also understand that they will be held accountable for the smoking prohibition included within Pub. L. 103-227, Part C Environmental Tobacco Smoke (also known as the Pro-Children's Act of 1994). A copy of the Federal Register notice that implements the smoking prohibition is included with the forms. By signing and submitting the application, applicants are providing the certification and need not mail back the certification with the application.

Administrative Grant Regulations—Applicable U.S. Department of Health and Human Services regulations can be found in 45 CFR part 74 or part 92.

Treatment of Program Income—Program income from activities funded under this program may be retained by the recipient and added to the funds committed to the project, and used to further program objectives. Program income must be reported semi-annually on the Financial Status Report (SF-269).

Post-Award Reporting Requirements—Grantees are required to file the Financial Status Report (SF-269) semi-annually and the Program Performance Reports quarterly. The Program Performance Reports should provide adequate data to assess the extent to which the grantee is achieving the goals of this grant announcement. Funds issued under these awards must be accounted for, and reported upon, separately from all other grant activities. The official receipt point for all reports and correspondence is the Grants Officer, Administration for Children and Families, Office of Grants Management, 370 L'Enfant Promenade SW., Fourth Floor West, Washington, DC 20447, Telephone: (202) 401-4577. An original and one copy of each report shall be submitted within 30 days of the end of each reporting period directly to the Office of Grants Management.

A final Financial Status Report and Program Performance Report shall be due 90 days after the project expiration date or termination of federal budget support.

Dated: July 1, 2003.
Nguyen Van Hanh,
Director, Office of Refugee Resettlement.

[FR Doc. 03-17398 Filed 7-8-03; 8:45 am]

BILLING CODE 4184-01-P